DEPARTMENT OF COMMERCE

Foreign-Trade Zones Board

[Order No. 1760]

Voluntary Termination of Foreign-Trade Subzone 33C; Sony Corporation of America, Mt. Pleasant, PA

Pursuant to the authority granted in the Foreign-Trade Zones Act of June 18, 1934, as amended (19 U.S.C. 81a-81u), and the Foreign-Trade Zones Board Regulations (15 CFR part 400), the Foreign-Trade Zones Board has adopted the following order:

Whereas, on September 27, 2001, the Foreign-Trade Zones Board issued a grant of authority to the Regional Industrial Development Corporation of Southwestern Pennsylvania, (grantee of FTZ 33) authorizing the establishment of Foreign-Trade Subzone 33C at the Sony Corporation of America plant in Mt. Pleasant, Pennsylvania (Board Order 1196, 66 FR 52741, 10/17/01);

Whereas, the Regional Industrial Development Corporation of Southwestern Pennsylvania has advised that zone procedures are no longer needed at the facility and requested voluntary termination of Subzone 33C (FTZ Docket 26-2011);

Whereas, the request has been reviewed by the FTZ Staff and Customs and Border Protection officials, and approval has been recommended;

Now, therefore, the Foreign-Trade Zones Board terminates the subzone status of Subzone 33C, effective this date.

Signed at Washington, DC, this 6th day of May 2011.
Ronald K. Lorentzen,
Deputy Assistant Secretary for Import Administration, Alternate Chairman, Foreign-Trade Zones Board.
Andrew McGilvray,
Executive Secretary.

[FR Doc. 2011-12090 Filed 5-16-11; 8:45 am]

BILLING CODE P